INTERNATIONAL TRADE COMMISSION

[Docket No. USITC SE-01-040]

Sunshine Act Meeting

AGENCY HOLDING THE MEETING: United States International Trade Commission.

TIME AND DATE: November 13, 2001 at 2 p.m.

PLACE: Room 101, 500 E Street, SW., Washington, DC 20436, Telephone: (202) 205-2000.

STATUS: Open to the public.

MATTERS TO BE CONSIDERED:

1. Agenda for future meeting: none

2. Minutes

3. Ratification List

4. Inv. Nos. 701-TA-422-425 and 731-TA-964-983 (Preliminary) (Certain Cold-Rolled Carbon Steel Flat Products from Argentina, Australia, Belgium, Brazil, China, France, Germany, India, Japan, Korea, the Netherlands, New Zealand, Russia, South Africa, Spain, Sweden, Taiwan, Thailand, Turkey, and Venezuela)—briefing and vote. (The Commission is currently scheduled to transmit its determination to the Secretary of Commerce on November 13, 2001; Commissioners' opinions are currently scheduled to be transmitted to the Secretary of Commerce on November 20, 2001.)

5. Inv. Nos. 701-TA-426 and 731-TA-984-985 (Preliminary) (Sulfanilic Acid from Hungary and Portugal)—briefing and vote. (The Commission is currently scheduled to transmit its determination to the Secretary of Commerce on November 13, 2001; Commissioners' opinions are currently scheduled to be transmitted to the Secretary of Commerce on November 20, 2001.)

6. Outstanding action jackets: none.

In accordance with Commission policy, subject matter listed above, not disposed of at the scheduled meeting, may be carried over to the agenda of the following meeting.

By order of the Commission.
Issued: November 5, 2001.
Donna R. Koehnke,
Secretary.

[FR Doc. 01-28180 Filed 11-6-01; 1:22 pm]

BILLING CODE 7020-02-M